DEPARTMENT OF COMMERCE

DEPARTMENT OF THE INTERIOR

Fish and Wildlife Service

[FWS-R1-R-2010-N009; 1265-000-10137-S3]

Marianas Trench Marine National Monument, Commonwealth of the Northern Mariana Islands, et al.; Monument Management Plan, Comprehensive Conservation Plans, and Environmental Assessment

AGENCY: Fish and Wildlife Service, Interior; National Oceanic and Atmospheric Administration, Commerce.

ACTION: Notice of intent; request for comments.

SUMMARY: We, the U.S. Fish and Wildlife Service (FWS) and the National Atmospheric and Oceanic Administration (NOAA), intend to prepare the monument management plan (MMP) for the Marianas Trench Marine National Monument (Monument) established by Presidential Proclamation 8335. The MMP will satisfy FWS comprehensive conservation plan (CCP) requirements for two units of the National Wildlife Refuge System (NWRS) contained therein. When the draft MMP is complete, we will advertise its availability and again seek public comment.

We furnish this notice to advise the public and other Federal and local agencies of our intentions, and to obtain suggestions and information on the scope of issues to consider during the planning process.

An environmental assessment (EA) to evaluate the potential effects of various management alternatives will also be prepared. The EA will provide resource managers with the information needed to determine if the potential effects may be significant and warrant preparation of an Environmental Impact Statement (EIS), or if the potential impacts lead to a Finding of No Significant Impact (FONSI).

DATES: To ensure consideration, we must receive your written comments by May 5, 2011.

ADDRESSES: Additional information about the Monument and its two refuge units is available at http://www.fws.gov/marianastrenchmarinemonument/ and http://www.fpir.noaa.gov/MNM/mnm_index.html. Please send your written comments or requests for more information by any of the following methods.

E-mail: Heidi.Hirsh@noaa.gov.

Fax: (808) 973-2941.

U.S. Mail: Heidi Hirsh, Natural Resource Management Specialist, NOAA, National Marine Fisheries Service, 1601 Kapiolani Blvd #1110, Honolulu, HI 96814.

FOR FURTHER INFORMATION CONTACT: Heidi Hirsh, Natural Resource Management Specialist, (808) 944-2223.

SUPPLEMENTARY INFORMATION:

Background

Monument Establishment and Management Responsibilities

On January 6, 2009, President George W. Bush issued Proclamation No. 8335 (Proclamation), establishing the Monument under the authority of the Antiquities Act of 1906. The Monument consists of three units: The Islands Unit encompasses the waters and submerged lands of the three northernmost Mariana Islands from the mean low water line out approximately 50 nautical miles (nmi); the Volcanic Unit encompasses each designated volcanic feature and the surrounding submerged lands out to 1 nmi; and the Trench Unit encompasses the submerged lands within the Mariana Trench.

The Monument encompasses approximately 61 million acres of submerged lands and certain waters of the Mariana Archipelago. The Trench Unit contains approximately 50.5 million acres of submerged lands, the Volcanic Unit includes approximately 55,912 acres of submerged lands, and the Islands Unit encompasses approximately 10.5 million acres of submerged lands and waters.

The Secretary of the Interior, in consultation with the Secretary of Commerce, has responsibility for management of the Monument; except that the Secretary of Commerce, in consultation with the Secretary of the Interior, has primary responsibility for management with respect to fishery-related activities regulated pursuant to the Magnuson-Stevens Fishery Conservation and Management Act (Magnuson-Stevens Act) (16 U.S.C. 1801 et seq.), the Proclamation, and other applicable legal authorities.

The Proclamation requires the Secretaries of the Interior and Commerce to prepare management plans within their respective authorities for the Monument, and promulgate implementing regulations that address specific actions necessary for the proper care and management of the Monument. With this notice, the Department of the Interior and the Department of Commerce (Departments) are commencing development of the MMP. The Departments will work cooperatively under Fish and Wildlife Service's lead in this process. The Commerce Department, in consultation with the Secretary of the Interior, is working with the Western Pacific Fishery Management Council pursuant to the Magnuson-Stevens Fishery Conservation and Management Act and the Proclamation to develop a fisheries ecosystem plan amendment and related regulations. To the extent they relate to waters within the Monument, the plan amendment and implementing regulations will be one component of the MMP. The Departments intend to cooperate and coordinate in the development and timing of these planning and management processes.

To carry out his responsibilities from the President under the Proclamation, by Secretary's Order 3284 (Order) dated January 16, 2009, the Secretary of the Interior delegated all of his management responsibility for the Monument to the FWS Director. The Order directs the FWS to manage the Volcanic Unit and the Trench Unit as units of the NWRS. The Order also directs the FWS to exercise all management responsibility given to the Secretary for the Islands Unit, but specifies that no part of it is included as a unit of the NWRS. In carrying out this delegation with respect to the two units added to the NWRS, and to facilitate public awareness that their status is slightly different than that of the Islands Unit, the FWS named the Trench Unit the Mariana Trench National Wildlife Refuge, and the Volcanic Unit the Mariana Arc of Fire National Wildlife Refuge.

The Monument's Natural Resources

The Volcanic Unit contains unique geological features found nowhere else in the world, including the largest active mud volcanoes, vents expelling almost pure liquid carbon dioxide, a pool of liquid sulfur, and one of only a few places in the world where photosynthetic and chemosynthetic communities of life coexist. The Trench Unit, where the Pacific Plate plunges into the Earth's mantle, contains the deepest point on Earth. The Islands Unit encompasses the waters of the archipelago's three northern islands, which are among the most biologically diverse in the western Pacific Ocean, and includes the greatest diversity of seamount and hydrothermal vent life yet discovered.

The MMP Planning Process

The MMP's format will include elements similar to a NWRS CCP, and the planning process for those elements will be conducted in a manner similar to the CCP planning and public involvement process. The MMP will be updated every 15 years.

The National Wildlife Refuge System Administration Act of 1966, as amended by the National Wildlife Refuge System Improvement Act of 1997 (16 U.S.C. 668dd-668ee) (Refuge System Administration Act), requires FWS to develop a CCP for each national wildlife refuge or planning unit. The purpose for developing a CCP is to provide refuge managers with a 15-year plan for achieving refuge purposes and contributing toward the mission of the NWRS, consistent with sound principles of fish and wildlife management and natural resource conservation, legal mandates, and applicable policies. In addition to outlining broad management direction for conserving wildlife and their habitats, CCPs identify wildlife-dependent recreational opportunities available to the public, including opportunities for hunting, fishing, wildlife observation and photography, and environmental education and interpretation.

We will conduct environmental reviews of various management alternatives and develop an EA in accordance with the National Environmental Policy Act (NEPA) of 1969, as amended (42 U.S.C. 4321 et seq.); NEPA Regulations (40 CFR parts 1500-1508); other Federal laws and regulations; and our policies and procedures for compliance with those laws and regulations.

The Fish and Wildlife Service, as lead agency for NEPA purposes, will also designate and involve as cooperating agencies the Department of Commerce, through NOAA; the Department of Defense; the Department of State; and the Government of the Commonwealth of the Northern Mariana Islands (CNMI), in accordance with NEPA and Executive Order 13352 of August 26, 2004, titled Facilitation of Cooperative Conservation.

The MMP is to provide for the following activities, to the extent appropriate to Department of the Interior and Department of Commerce authorities and the Proclamation:

• Management of the Islands Unit, in consultation with the Government of the CNMI, including designating specific roles and responsibilities, and identifying the means of consultation on management decisions as appropriate and consistent with the respective authorities and jurisdictions of the CNMI and the Secretaries of the Interior and Commerce.

• Public education programs and public outreach regarding the Monument's coral reef ecosystem, related marine resources and species, and conservation efforts.

• Traditional access to the Monument by indigenous persons, as identified by the Secretaries of the Interior and Commerce in consultation with the Government of the CNMI, for culturally significant subsistence and other cultural and religious uses.

• A program to assess and promote Monument-related scientific exploration and research, tourism, and recreational and economic activities and opportunities in the CNMI.

• A process to consider requests for recreational fishing permits in certain areas of the Islands Unit.

• Programs for monitoring and enforcement necessary to ensure that scientific exploration and research, tourism, and recreational and commercial activities do not degrade the Monument's coral reef ecosystem or related marine resources or species, or diminish the Monument's natural character.

Public Involvement

The FWS and NOAA will conduct the planning process in a manner that will provide participation opportunities for the public, Federal and local government agencies, and other interested parties. At this time, we encourage input in the form of issues, concerns, ideas, and suggestions for the future management of the Monument. Opportunities for additional public input will be announced throughout the planning process. We may hold public meetings to help share information and obtain comments.

Preliminary Issues, Concerns, and Opportunities

We identified the following preliminary issues and opportunities that we may address in the MMP. We expect to identify additional issues during public scoping.

• Climate change impacts and adaptation.

• Marine debris impacts and removal.

• Invasive species prevention and control.

• Other potential threats to the ecosystem (e.g., trespass; illegal fishing; and shipwrecks, groundings, and spills).

• Emergency response to natural and manmade disasters and natural resources damage assessments.

• Operational capabilities for effective ecosystem monitoring, surveillance, and enforcement.

• Habitat conservation and restoration.

• Biological and abiotic inventory and monitoring.

• Protected resources and their habitats, including coral reefs, marine clams, apex predators, marine mammals, sea turtles, seabirds, and fishes.

• Historic and cultural resources, including maritime heritage.

• Public education and outreach.

• International programs and collaboration.

• Scientific exploration and research opportunities.

• Developing an appropriate permitting regime for activities within the Monument.

• Determining if bioprospecting is appropriate and compatible.

Next Steps

The FWS and NOAA, in consultation with the Mariana Monument Advisory Council, and the Government of the CNMI, will be considering your comments during development of the Draft MMP/CCPs/EA.

Public Availability of Comments

Before including your address, phone number, or other personal identifying information in your comment, you should be aware that your entire comment—including your personal identifying information—may be made publicly available at any time. While you can ask us in your comments to withhold your personal identifying information from public review, we cannot guarantee that we will be able to do so.

Robyn Thorson,
Regional Director, Region 1, Portland, Oregon.
Emily H. Menashes,
Acting Director, Office of Sustainable Fisheries, National Marine Fisheries Service.

[FR Doc. 2011-7960 Filed 4-4-11; 8:45 am]

BILLING CODE 4310-55-P